DEPARTMENT OF DEFENSE

Office of the Secretary

[Transmittal Nos. 13-51]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-51 with attached transmittal, policy justification, and Sensitivity of Technology.

Dated: October 17, 2013.
Aaron Siegel,
Alternate OSD Federal Register Liaison Officer, Department of Defense.

BILLING CODE 5001-06-P

BILLING CODE 5001-06-C

Transmittal No. 13-51

Notice of Proposed Issuance of Letter of Offer Pursuant to Section 36(b)(1) of the Arms Export Control Act, as amended

(i) Prospective Purchaser: Government of Singapore

(ii) Total Estimated Value:

Major Defense Equipment | $ 99 million
Other | $ 80 million
TOTAL | $ 179 million

(iii) Description and Quantity or Quantities of Articles or Services under Consideration for Purchase: 6 AN/TPQ-53 (V) Counterfire Target Acquisition Radar Systems with 120 degree sector scan capability, software support, support equipment, simulator, generators, power units, publications and technical documentation, spare and repair parts, live fire exercise, communication support equipment, tool and test equipment, personnel training and training equipment, U.S. Government and contractor technical and logistic support services, repair and return, Quality Assurance Teams, and other related elements or program and logistics support.

(iv) Military Department: Army (VPN)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: 08 Oct 13

* As defined in Section 47(6) of the Arms Export Control Act.

POLICY JUSTIFICATION

Singapore—AN/TPQ-53 Counter fire Acquisition Radar Systems

The Government of Singapore has requested a possible sale of 6 AN/TPQ-53 (V) Counterfire Target Acquisition Radar Systems with 120 degree sector scan capability, software support, support equipment, simulator, generators, power units, publications and technical documentation, spare and repair parts, live fire exercise, communication support equipment, tool and test equipment, personnel training and training equipment, U.S. Government and contractor technical and logistic support services, repair and return, Quality Assurance Teams, and other related elements or program and logistics support. The estimated cost is $179 million.

This proposed sale will contribute to the foreign policy and national security of the United States by increasing the ability of the Republic of Singapore to contribute to regional security. Its contributions to counter-piracy and counterterrorism efforts continue to stabilize a critical chokepoint where much of the world's goods and services transit en route to and from the Asia Pacific region. The proposed sale will improve the security of a strategic partner which has been, and continues to be, an important force for political stability and economic progress in the Asia Pacific region.

The Government of Singapore intends to use these radar systems to modernize its armed forces. The purchase of these target acquisition radars will enhance the Singapore Army's foundational defense capability. The radars will reduce the vulnerability of forces to indirect fire attacks and provide them with the information necessary to respond to such attacks. The proposed sale provides the Government of Singapore with assets vital to protect and deter potential threats. Singapore will have no difficulty absorbing this equipment into its armed forces.

The proposed sale of this equipment and support will not alter the basic military balance in the region.

The principal contractor will be Lockheed Martin Corporation in Syracuse, New York. There are no known offset agreements proposed in connection with the potential sale.

Implementation of this proposed sale will require the U.S. Government and contractor representatives to travel to Singapore for a period of six (6) weeks for equipment deprocessing/fielding, systems checkout and new equipment training.

There will be no adverse impact on U.S. defense readiness as a result of this proposed sale.

Transmittal No. 13-51

Notice of Proposed Issuance of Letter of Offer Pursuant to Section 36(b)(1) of the Arms Export Control Act, as amended

Annex

Item No. vii

(vii) Sensitivity of Technology:

1. The AN/TPQ-53(V) Counterfire target acquisition radar is a new generation of counter fire sensor with the flexibility to adapt to targets and changing missions. The solid-state phased array AN/TPQ-53 radar system detects, classifies, tracks and determines the location of enemy indirect fire. This radar system is replacing the aging AN/TPQ-36 and AN/TPQ-37 medium-range radars. The radar is mounted on a 5-ton prime mover and is mobile, maneuverable, fully supportable and easily maintained. The AN/TPQ-53(V) Radar System is Unclassified. There is no sensitive or restricted information contained in the AN/TPQ-53(V) Radar System or software.

2. If a technologically advanced adversary were to obtain knowledge of the specific hardware and software elements, the information could be used to identify ways of countering the detection capabilities of the AN/TPQ-53(V) Radar System or improve the performance of their radar systems. The hardware used in the AN/TPQ-53(V) Radar System is considered mature and available in other industrial nation's comparable performance thresholds.

[FR Doc. 2013-24574 Filed 10-21-13; 8:45 am]

BILLING CODE 5001-06-P